DEPARTMENT OF AGRICULTURE

Rural Housing Service

Notice of Request for Extension of Currently Approved Information Collection

AGENCY: Rural Housing Service, USDA.

ACTION: Notice and request for comments.

SUMMARY: In accordance with the Paperwork Reduction Act of 1995, the Rural Housing Service (RHS) invites comments on this information collection for the Housing Preservation Grant (HPG) Program, which approval from the Office of Management and Budget (OMB) will be requested.

DATES: Comments on this Notice must be received by April 15, 2019.

FOR FURTHER INFORMATION CONTACT: Thomas P. Dickson, Rural Development Innovation Center—Regulatory Team 2, USDA, 1400 Independence Avenue SW, STOP 1522, Room 5164, South Building, Washington, DC 20250-1522. Telephone: (202) 690-4492. Email Thomas.dickson@usda.gov.

For program inquires, contact Bonnie Edwards-Jackson, Finance and Loan Analyst, Multi-Family Housing Preservation and Direct Loan Division, U.S. Department of Agriculture Rural Development, STOP 0781, 1400 Independence Avenue SW, Washington, DC 20250-0782, telephone (202) 690-0759 (voice) (this is not a toll-free number) or (800) 877-8339 (TDD-Federal Information Relay Service) or via email at, bonnie.edwards@wdc.usda.gov.

SUPPLEMENTARY INFORMATION: The Office of Management and Budget's (OMB) regulation (5 CFR 1320) implementing provisions of the Paperwork Reduction Act of 1995 (Pub. L. 104-13) requires that interested members of the public and affected agencies have an opportunity to comment on information collection and recordkeeping activities (see 5 CFR 1320.8(d)). This notice identifies an information collection that the Agency is submitting to OMB for revision.

Comments are invited on (a) whether the collection of information is necessary for the proper performance of the functions of the agency, including whether the information will have practical utility; (b) the accuracy of the agency's estimate of burden including the validity of the methodology and assumption used; (c) ways to enhance the quality, utility, and clarity of the information to be collected; and (d) ways to minimize the burden of the collection of information on those who are to respond, including the use of appropriate automated, electronic, mechanical, or other technological collection techniques on other forms and information technology.

Comments may be sent to: Thomas P. Dickson, Rural Development Innovation Center—Regulatory Team 2, USDA, 1400 Independence Avenue SW, STOP 1522, Room 5164, South Building, Washington, DC 20250-1522. Telephone: (202) 690-4492. Email Thomas.dickson@usda.gov.

Title: 7 CFR part 1944-N Housing Preservation Grants.

OMB Control Number: 0575-0115.

Type of Request: Extension of a currently approved collection.

Abstract: The primary purpose of the HPG Program is to repair or rehabilitate individual housing, rental properties, or co-ops owned or occupied by very low- and low-income rural persons. Grantees will provide eligible homeowners, owners of rental prope1iies and owners of co-ops with financial assistance through loans, grants, interest reduction payments or other comparable financial assistance for necessary repairs and rehabilitation of dwellings to bring them up to code or minimum property standards. Where repair and rehabilitation assistance are not economically feasible or practical the replacement of existing, individual owner-occupied housing is available.

These grants were established by Public Law 98-181, the Housing Urban-Rural Recovery Act of 1983, which amended the Housing Act of 1979 (Pub. L. 93-383) by adding section 533, 42 U.S.C. S 2490(m), Housing Preservation Grants. In addition, the Secretary of Agriculture has authority to prescribe rules and regulations to implement the HPG and other programs under 42 U.S.C. S 1480(G). Section 533(d) is prescriptive about the information applicants are to submit to RHS as part of their application and in the assessments and criteria RHS is to use in selecting grantees. An applicant is to submit a “statement of activity” describing its proposed program, including the specific activities it will undertake, and its schedule. RHS is required in turn to evaluate proposals on a set of prescribed criteria, for which the applicant will also have to provide information, such as: (1) Very low- and low-income persons proposed to be served by the repair and rehabilitation activities; (2) participation by other public and private organizations to leverage funds and lower the cost to the HPG program; (3) the areas to be served in terms of population and need: (4) cost data to assure greatest degree of assistance at lowest cost; (5) administrative capacity of the applicant to carry out the program. The information collected will be the minimum required by law and by necessity for RHS to assure that it funds responsible grantees proposing feasible projects in areas of greatest need. Most data are taken from a localized area, although some are derived from census reports of city, county and Federal governments showing population and housing characteristics.

Estimated Total Annual Burden on Respondents: 8,262 hours.

Estimated Number of Respondents: 1,093.

Estimated Number of Responses per Respondent: 7.55.

Copies of this information collection can be obtained from MaryPat Daskal, Rural Development Innovation Center—Regulations Team. Telephone: (202) 720-7853. Email: MaryPatDaskal@usda.gov.

All responses to this notice will be summarized and included in the request for OMB approval. All comments will also become a matter of public record.

Joel C. Baxley,
Administrator, Rural Housing Service.

[FR Doc. 2019-02047 Filed 2-11-19; 8:45 am]

BILLING CODE 3410-XV-P